DEPARTMENT OF TRANSPORTATION

Federal Aviation Administration

14 CFR Part 73

[Docket No. FAA-2006-23531; Airspace Docket No. 04-ASO-14]

RIN 2120-AA66

Proposed Modification of Restricted Areas R-3002A, B, C, D, E, and F; and Establishment of Restricted Area R-3002G; Fort Benning, GA

AGENCY: Federal Aviation Administration (FAA), DOT.

ACTION: Notice of proposed rulemaking.

SUMMARY: This action proposes to modify the boundaries of the Restricted Area R-3002 range complex at Fort Benning, GA. The U.S. Army proposed these modifications as a result of a land exchange agreement between Fort Benning and the City of Columbus, GA. Specifically, the proposal would eliminate restricted airspace over a parcel of land that has been transferred from the Army to the City of Columbus. The proposal would also add new restricted airspace over a parcel of land to the south of the current restricted area complex, that was ceded by the City to the Army. In addition, a portion of the southwest section of R-3002, within the existing restricted airspace, would be redesignated as a separate restricted area, R-3002G, to better accommodate instrument approach procedures at Lawson Army Air Field (AAF). The internal boundaries between restricted area subdivisions would also be realigned slightly to permit more efficient scheduling and utilization of the range complex. Finally, the names of the controlling agency and using agency for the restricted areas would be changed to reflect their current titles.

DATES: Comments must be received on or before March 16, 2006.

ADDRESSES: Send comments on this proposal to the Docket Management System, U.S. Department of Transportation, Room Plaza 401, 400 Seventh Street, SW., Washington, DC 20590-0001. You must identify FAA Docket Number FAA-2006-23531 and Airspace Docket No. 04-ASO-14, at the beginning of your comments. You may also submit comments through the Internet at http://dms.dot.gov. Comments on environmental and land use aspects should be directed to: Chief of Environmental Branch, Ft. Benning, GA; (Mr. Patrick Chauvey, telephone: 706-545-4211).

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2006-23531 and Airspace Docket No. 04-ASO-14) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2006-23531 and Airspace Docket No. 04-ASO-14.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1701 Columbia Avenue, College Park, GA 30337.

Persons interested in being placed on a mailing list for future NPRM's should contact the FAA's Office of Rulemaking, (202) 267-9677, for a copy of Advisory Circular No. 11-2A, Notice of Proposed Rulemaking Distribution System, which describes the application procedure.

Background

In the year 2000, a State and Federal Land Exchange action was completed whereby a portion of Fort Benning Military Reservation land, in the northwest section of the Restricted Area R-3002 range complex, was transferred by the Army to the City of Columbus, GA. In addition, a parcel of City-owned land located adjacent to, and south of, the existing restricted areas was ceded to Fort Benning for military use. As a result of the land swap, the boundaries of the R-3002 complex must be adjusted to eliminate restricted airspace that overlies the land ceded to the City of Columbus, and add restricted airspace over the land transferred by the City to Fort Benning. With the transfer of land to the City, there is no longer a requirement for restricted airspace over that section. Elimination of that section of restricted airspace would enhance safety for instrument flight rules (IFR) and visual flight rules (VFR) aircraft operations at the Columbus Metropolitan Airport, Columbus, GA, by moving the boundary of the restricted area farther away from the airport. The new restricted area over the land transferred to Fort Benning would enable the use of that land for military activities currently conducted in the R-3002 range complex and would offset the elimination of restricted airspace in the northwest section of the range.

In conjunction with the above, the Army requested that the FAA establish a separate subarea, R-3002G, within the southwest section of the existing restricted area complex. By designating this existing section of restricted airspace as a separate subarea (R-3002G), the Army would be able to release R-3002G when needed to better accommodate aircraft flying instrument approaches into Lawson AAF. This would enhance the safety and efficiency of operations at the airport. The Army also requested a minor realignment of the internal dividing line between existing restricted subareas to permit better scheduling and use of range facilities. In addition, the names of the controlling agency and the using agency for the R-3002 complex would be updated to reflect the current titles of those agencies.

The Proposal

The FAA is proposing an amendment to Title 14 Code of Federal Regulations (14 CFR part 73) to amend the boundaries of Restricted Areas R-3002A, B, C, D, E, and F; redesignate the southwest corner of existing restricted airspace as a separate subarea titled R-3002G; and change the name of the controlling agency and using agency for the Fort Benning restricted areas. The boundary amendments include the revocation of restricted airspace over land ceded to the City of Columbus, GA, in the northwest corner of the range; and the establishment of new restricted airspace over land ceded by the City to Fort Benning to the south of existing Restricted Areas R-3002A, B, and C. In addition, the internal dividing lines between restricted areas would be realigned slightly to permit better scheduling and utilization of the complex. The FAA is also proposing to change the name of the controlling agency from “FAA, ATC Tower, Columbus, GA,” to “FAA, Atlanta TRACON,” and the name of the using agency from “Commanding Officer, Fort Benning, GA,” to “U.S. Army, Commanding General, Infantry Center and Fort Benning, GA.” These changes are necessary to reflect the current titles of the responsible agencies.

The coordinates for this airspace action are based on North American Datum of 1983.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to the appropriate environmental analysis in accordance with FAA Order 1050.1E, Environmental Impacts: Policies and Procedures, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. § 73.30 is amended as follows:

* * * * *

R-3002A Fort Benning, GA [Amended]

By removing the current Boundaries, Controlling agency, and Using agency and substituting the following:

Boundaries. Beginning at lat. 32°31′12″ N., long. 84°50′11″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; to lat. 32°15′25″ N., long. 84°47′32″ W.; to lat. 32°15′26″ N., long. 84°48′37″ W.; to lat. 32°15′17″ N., long. 84°48′37″ W.; thence along River Bend Road to lat. 32°15′17″ N., long. 84°48′48″ W.; to lat. 32°15′06″ N., long. 84°49′08″ W.; to lat. 32°14′48″ N., long. 84°49′26″ W.; to lat. 32°14′38″ N., long. 84°49′53″ W.; to lat. 32°14′32″ N., long. 84°50′15″ W.; to lat. 32°14′22″ N., long. 84°50′30″ W.; to lat. 32°14′12″ N., long. 84°50′36″ W.; to lat. 32°14′22″ N., long. 84°52′22″ W.; to lat. 32°15′07″ N., long. 84°52′21″ W.; to lat. 32°15′06″ N., long. 84°52′38″ W.; to lat, 32°15′33″ N., long. 84°52′37″ W.; to lat. 32°15′34″ N., long. 84°53′11″ W.; to lat. 32°20′15″ N., long. 84°58′36″ W.; thence along Dixie Rd/First Division Rd to lat. 32°20′36″ N., long. 84°58′15″ W.; to lat. 32°20′53″ N., long. 84°57′55″ W.; to lat. 32°21′03″ N., long. 84°57′40″ W.; to lat. 32°21′11″ N., long. 84°57′24″ W.; to lat. 32°21′08″ N., long. 84°56′55″ W.; to lat. 32°21′13″ N., long. 84°56′04″ W.; to lat. 32°21′33″ N., long. 84°55′35″ W.; to lat. 32°21′50″ N., long. 84°55′16″ W.; to lat. 32°21′53″ N., long. 84°55′00″ W.; to lat. 32°22′06″ N., long. 84°54′41″ W.; to lat. 32°23′01″ N., long. 84°55′44″ W.; to lat. 32°24′48″ N., long. 84°52′52″ W.; to lat. 32°25′36″ N., long. 84°52′52″ W.; to lat. 32°25′44″ N., long. 84°53′30″ W.; to lat. 32°26′19″ N., long. 84°53′31″ W.; to lat. 32°26′20″ N., long. 84°53′54″ W.; to lat. 32°27′19″ N., long. 84°53′53″ W.; to lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; thence to the point of beginning.

Controlling agency. FAA, Atlanta TRACON.

Using agency. U.S. Army, Commanding General, Infantry Center and Fort Benning, GA.

R-3002B Fort Benning, GA [Amended]

By removing the current Boundaries, Controlling agency, and Using agency and substituting the following:

Boundaries. Beginning at lat. 32°31′12″ N., long. 84°50′11″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; to lat. 32°15′25″ N., long. 84°47′32″ W.; to lat. 32°15′26″ N., long. 84°48′37″ W.; to lat. 32°15′17″ N., long. 84°48′37″ W.; thence along River Bend Road to lat. 32°15′17″ N., long. 84°48′48″ W.; to lat. 32°15′06″ N., long. 84°49′08″ W.; to lat. 32°14′48″ N., long. 84°49′26″ W.; to lat. 32°14′38″ N., long. 84°49′53″ W.; to lat. 32°14′32″ N., long. 84°50′15″ W.; to lat. 32°14′22″ N., long. 84°50′30″ W.; to lat. 32°14′12″ N., long. 84°50′36″ W.; to lat. 32°14′22″ N., long. 84°52′22″ W.; to lat. 32°15′07″ N., long. 84°52′21″ W.; to lat. 32°15′06″ N., long. 84°52′38″ W.; to lat, 32°15′33″ N., long. 84°52′37″ W.; to lat. 32°15′34″ N., long. 84°53′11″ W.; to lat. 32°20′15″ N., long. 84°58′36″ W.; thence along Dixie Rd/First Division Rd to lat. 32°20′36″ N., long. 84°58′15″ W.; to lat. 32°20′53″ N., long. 84°57′55″ W.; to lat. 32°21′03″ N., long. 84°57′40″ W.; to lat. 32°21′11″ N., long. 84°57′24″ W.; to lat. 32°21′08″ N., long. 84°56′55″ W.; to lat. 32°21′13″ N., long. 84°56′04″ W.; to lat. 32°21′33″ N., long. 84°55′35″ W.; to lat. 32°21′50″ N., long. 84°55′16″ W.; to lat. 32°21′53″ N., long. 84°55′00″ W.; to lat. 32°22′06″ N., long. 84°54′41″ W.; to lat. 32°23′01″ N., long. 84°55′44″ W.; to lat. 32°24′48″ N., long. 84°52′52″ W.; to lat. 32°25′36″ N., long. 84°52′52″ W.; to lat. 32°25′44″ N., long. 84°53′30″ W.; to lat. 32°26′19″ N., long. 84°53′31″ W.; to lat. 32°26′20″ N., long. 84°53′54″ W.; to lat. 32°27′19″ N., long. 84°53′53″ W.; to lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; thence to the point of beginning.

Controlling agency. FAA, Atlanta TRACON.

Using agency. U.S. Army, Commanding General, Infantry Center and Fort Benning, GA.

R-3002C Fort Benning, GA [Amended]

By removing the current Boundaries, Controlling agency, and Using agency and substituting the following:

Boundaries. Beginning at lat. 32°31′12″ N., long. 84°50′11″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; to lat. 32°15′25″ N., long. 84°47′32″ W.; to lat. 32°15′26″ N., long. 84°48′37″ W.; to lat. 32°15′17″ N., long. 84°48′37″ W.; thence along River Bend Road to lat. 32°15′17″ N., long. 84°48′48″ W.; to lat. 32°15′06″ N., long. 84°49′08″ W.; to lat. 32°14′48″ N., long. 84°49′26″ W.; to lat. 32°14′38″ N., long. 84°49′53″ W.; to lat. 32°14′32″ N., long. 84°50′15″ W.; to lat. 32°14′22″ N., long. 84°50′30″ W.; to lat. 32°14′12″ N., long. 84°50′36″ W.; to lat. 32°14′22″ N., long. 84°52′22″ W.; to lat. 32°15′07″ N., long. 84°52′21″ W.; to lat. 32°15′06″ N., long. 84°52′38″ W.; to lat, 32°15′33″ N., long. 84°52′37″ W.; to lat. 32°15′34″ N., long. 84°53′11″ W.; to lat. 32°20′15″ N., long. 84°58′36″ W.; thence along Dixie Rd/First Division Rd to lat. 32°20′36″ N., long. 84°58′15″ W.; to lat. 32°20′53″ N., long. 84°57′55″ W.; to lat. 32°21′03″ N., long. 84°57′40″ W.; to lat. 32°21′11″ N., long. 84°57′24″ W.; to lat. 32°21′08″ N., long. 84°56′55″ W.; to lat. 32°21′13″ N., long. 84°56′04″ W.; to lat. 32°21′33″ N., long. 84°55′35″ W.; to lat. 32°21′50″ N., long. 84°55′16″ W.; to lat. 32°21′53″ N., long. 84°55′00″ W.; to lat. 32°22′06″ N., long. 84°54′41″ W.; to lat. 32°23′01″ N., long. 84°55′44″ W.; to lat. 32°24′48″ N., long. 84°52′52″ W.; to lat. 32°25′36″ N., long. 84°52′52″ W.; to lat. 32°25′44″ N., long. 84°53′30″ W.; to lat. 32°26′19″ N., long. 84°53′31″ W.; to lat. 32°26′20″ N., long. 84°53′54″ W.; to lat. 32°27′19″ N., long. 84°53′53″ W.; to lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; thence to the point of beginning.

Controlling agency. FAA, Atlanta TRACON.

Using agency. U.S. Army, Commanding General, Infantry Center and Fort Benning, GA.

R-3002D Fort Benning, GA [Amended]

By removing the current Boundaries, Controlling agency, and Using agency and substituting the following:

Boundaries. Beginning at lat. 32°31′12″ N., long. 84°50′11″ W.; to lat. 32°31′52″ N., long. 84°50′25″ W.; to lat. 32°33′05″ N., long. 84°45′27″ W.; thence along the Central of Georgia Railroad to lat. 32°32′52″ N., long. 84°45′00″ W.; to lat. 32°32′43″ N., long. 84°44′08″ W.; to lat. 32°32′34″ N., long. 84°43′40″ W.; to lat. 32°32′22″ N., long. 84°43′13″ W.; to lat. 32°32′18″ N., long. 84°42′53″ W.; to lat. 32°32′08″ N., long. 84°42′38″ W.; to lat. 32°32′05″ N., long. 84°42′26″ W.; to lat. 32°32′11″ N., long. 84°42′12″ W.; to lat. 32°32′13″ N., long. 84°41′54″ W.; to lat. 32°32′10″ N., long. 84°41′38″ W.; to lat. 32°32′06″ N., long. 84°41′25″ W.; to lat. 32°32′08″ N., long. 84°41′17″ W.; to lat. 32°32′15″ N., long. 84°41′01″ W.; to lat. 32°32′20″ N., long. 84°40′56″ W.; to lat. 32°32′07″ N., long. 84°40′44″ W.; to lat. 32°31′06″ N., long. 84°41′43″ W.; to lat. 32°31′04″ N., long. 84°40′54″ W.; to lat. 32°32′04″ N., long. 84°38′16″ W.; to lat. 32°29′16″ N., long. 84°38′17″ W.; to lat. 32°29′10″ N., long. 84°39′25″ W.; to lat. 32°18′35″ N., long. 84°39′30″ W.; to lat. 32°18′23″ N., long. 84°41′09″ W.; to lat. 32°19′03″ N., long. 84°41′42″ W.; thence to the point of beginning.

Controlling agency. FAA, Atlanta TRACON.

Using agency. U.S. Army, Commanding General, Infantry Center and Fort Benning, GA.

R-3002E Fort Benning, GA [Amended]

By removing the current Boundaries, Controlling agency, and Using agency and substituting the following:

Boundaries. Beginning at lat. 32°31′12″ N., long. 84°50′11″ W.; to lat. 32°31′52″ N., long. 84°50′25″ W.; to lat. 32°33′05″ N., long. 84°45′27″ W.; thence along the Central of Georgia Railroad to lat. 32°32′52″ N., long. 84°45′00″ W.; to lat. 32°32′43″ N., long. 84°44′08″ W.; to lat. 32°32′34″ N., long. 84°43′40″ W.; to lat. 32°32′22″ N., long. 84°43′13″ W.; to lat. 32°32′18″ N., long. 84°42′53″ W.; to lat. 32°32′08″ N., long. 84°42′38″ W.; to lat. 32°32′05″ N., long. 84°42′26″ W.; to lat. 32°32′11″ N., long. 84°42′12″ W.; to lat. 32°32′13″ N., long. 84°41′54″ W.; to lat. 32°32′10″ N., long. 84°41′38″ W.; to lat. 32°32′06″ N., long. 84°41′25″ W.; to lat. 32°32′08″ N., long. 84°41′17″ W.; to lat. 32°32′15″ N., long. 84°41′01″ W.; to lat. 32°32′20″ N., long. 84°40′56″ W.; to lat. 32°32′07″ N., long. 84°40′44″ W.; to lat. 32°31′06″ N., long. 84°41′43″ W.; to lat. 32°31′04″ N., long. 84°40′54″ W.; to lat. 32°32′04″ N., long. 84°38′16″ W.; to lat. 32°29′16″ N., long. 84°38′17″ W.; to lat. 32°29′10″ N., long. 84°39′25″ W.; to lat. 32°18′35″ N., long. 84°39′30″ W.; to lat. 32°18′23″ N., long. 84°41′09″ W.; to lat. 32°19′03″ N., long. 84°41′42″ W.; thence to the point of beginning.

Controlling agency. FAA, Atlanta TRACON.

Using agency. U.S. Army, Commanding General, Infantry Center and Fort Benning, GA.

R-3002F Fort Benning, GA [Amended]

By removing the current Boundaries, Controlling agency, and Using agency and substituting the following:

Boundaries. Beginning at lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; to lat. 32°31′12″ N., long. 84°50′11″ W.; to lat. 32°31′52″ N., long. 84°50′25″ W.; to lat. 32°33′05″ N., long. 84°45′27″ W; thence along the Central of Georgia Railroad to lat. 32°32′52″ N., long. 84°45′00″ W.; to lat. 32°32′43″ N., long. 84°44′08″ W.; to lat. 32°32′34″ N., long. 84°43′40″ W.; to lat. 32°32′22″ N., long. 84°43′13″ W.; to lat. 32°32′18″ N., long. 84°42′53″ W.; to lat. 32°32′08″ N., long. 84°42′38″ W.; to lat. 32°32′05″ N., long. 84°42′26″ W.; to lat. 32°32′11″ N., long. 84°42′12″ W.; to lat. 32°32′13″ N., long. 84°41′54″ W.; to lat. 32°32′10″ N., long. 84°41′38″ W.; to lat. 32°32′06″ N., long. 84°41′25″ W.; to lat. 32°32′08″ N., long. 84°41′17″ W.; to lat. 32°32′15″ N., long. 84°41′01″ W.; to lat. 32°32′20″ N., long. 84°40′56″ W.; to lat. 32°32′07″ N., long. 84°40′44″ W.; to lat. 32°31′06″ N., long. 84°41′43″ W.; to lat. 32°31′04″ N., long. 84°40′54″ W.; to lat. 32°32′04″ N., long. 84°38′16″ W.; to lat. 32°29′16″ N., long. 84°38′17″ W.; to lat. 32°29′10″ N., long. 84°39′25″ W.; to lat. 32°18′35″ N., long. 84°39′30″ W.; to lat. 32°18′23″ N., long. 84°41′09″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; thence to the point of beginning.

Controlling agency. FAA, Atlanta TRACON.

Using agency. U.S. Army, Commanding General, Infantry Center and Fort Benning, GA.

R-3002G Fort Benning, GA [New]

Boundaries. Beginning at lat. 32°20′15″ N., long. 84°58′36″ W.; to lat. 32°15′34″ N., long. 84°53′11″ W.; to lat. 32°15′32″ N., long. 84°54′02″ W.; to lat. 32°15′04″ N., long. 84°55′24″ W.; to lat. 32°14′27″ N., long. 84°54′50″ W.; to lat. 32°14′25″ N., long. 84°56′53″ W.; to lat. 32°14′36″ N., long. 84°56′53″ W.; to lat. 32°14′38″ N., long. 84°57′56″ W.; to lat. 32°16′36″ N., long. 84°57′58″ W.; to lat. 32°16′36″ N., long. 84°58′35″ W.; to lat. 32°17′39″ N., long. 84°58′35″ W.; to lat. 32°17′40″ N., long. 84°58′54″ W.; thence to the point of beginning.

Designated altitudes. Surface to 14,000 feet MSL.

Time of designation. Intermittent, 0600-0200 local time daily; other times by NOTAM 6 hours in advance.

Controlling agency. FAA, Atlanta TRACON.

Using agency. U.S. Army, Commanding General, Infantry Center and Fort Benning, GA.

* * * * *

Issued in Washington, DC on January 24, 2006.
Edith V. Parish,
Manager, Airspace and Rules.

[FR Doc. E6-1074 Filed 1-27-06; 8:45 am]

BILLING CODE 4910-13-P